INTERNATIONAL TRADE COMMISSION

[Investigation No. 731-TA-747 (Second Review)]

Fresh Tomatoes From Mexico

AGENCY: United States International Trade Commission.

ACTION: Termination of five-year review and resumption of antidumping investigation.

SUMMARY: The subject five-year review was instituted on November 1, 2007, to determine whether termination of the suspended investigation on fresh tomatoes from Mexico would be likely to lead to continuation or recurrence of material injury (72 FR 61903, November 1, 2007). On November 26, 2007, Mexican tomato growers/exporters accounting for a significant percentage of all fresh tomatoes imported into the United States from Mexico provided written notice to the Department of Commerce of their withdrawal from the agreement suspending the antidumping investigation on fresh tomatoes from Mexico. Effective January 18, 2008, the Department of Commerce terminated the suspension agreement, terminated the five-year review of the suspended investigation, and resumed the antidumping investigation on fresh tomatoes from Mexico because the suspension agreement no longer covered substantially all imports of fresh tomatoes from Mexico (73 FR 2887, January 16, 2008). Accordingly, the U.S. International Trade Commission gives notice of the termination of its review and the resumption of its antidumping investigation involving imports of fresh tomatoes from Mexico. A schedule for the final phase of the investigation will be established and announced at a later date.

DATES: Effective Date: January 18, 2008.

FOR FURTHER INFORMATION CONTACT: Mary Messer (202-205-3193), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov).

Authority: This review is being terminated and the resumed antidumping investigation is being conducted under authority of title VII of the Tariff Act of 1930; this notice is published pursuant to sections 207.40 and 207.21 of the Commission's rules (19 CFR 207.40 and 207.21).

Issued: January 28, 2008.
By order of the Commission.
Marilyn R. Abbott,
Secretary to the Commission.

[FR Doc. E8-1732 Filed 1-30-08; 8:45 am]

BILLING CODE 7020-02-P